DEPARTMENT OF AGRICULTURE

Animal and Plant Health Inspection Service

[Docket No. APHIS-2021-0076]

Importation of Acer spp. (Acer buergerianum, A. palmatum, and A. pseudosieboldianum) Dwarf Plants From the Republic of Korea Into the Continental United States

AGENCY: Animal and Plant Health Inspection Service, USDA.

ACTION: Notice.

SUMMARY: We are advising the public that we have prepared a pest risk analysis relative to the importation of three Acer spp. (Acer buergerianum, A. palmatum, and A. pseudosieboldianum) dwarf plants from the Republic of Korea into the continental United States. Currently, Acer spp. are included in our lists of taxa of plants for planting whose importation into the United States is not authorized pending pest risk analysis. Based on the findings of the pest risk analysis, we are proposing to remove Acer buergerianum, A. palmatum, and A. pseudosieboldianum dwarf plants from the Republic of Korea from the not authorized pending plant risk analysis lists, thereby allowing the importation of such Acer spp. into the United States, subject to certain conditions. We are making the pest risk analysis available to the public for review and comment.

DATES: We will consider all comments that we receive on or before April 1, 2022.

ADDRESSES: You may submit comments by either of the following methods:

• Federal eRulemaking Portal: Go to http://www.regulations.gov and enter APHIS-2021-0076 in the Search field. Select the Documents tab, then select the Comment button in the list of documents.

• Postal Mail/Commercial Delivery: Send your comment to Docket No. APHIS-2021-0076, Regulatory Analysis and Development, PPD, APHIS, Station 3A-03.8, 4700 River Road, Unit 118, Riverdale, MD 20737-1238.

Supporting documents and any comments we receive on this docket may be viewed at www.regulations.gov or in our reading room, which is located in room 1620 of the USDA South Building, 14th Street and Independence Avenue SW, Washington, DC. Normal reading room hours are 8 a.m. to 4:30 p.m., Monday through Friday, except holidays. To be sure someone is there to help you, please call (202) 799-7039 before coming.

FOR FURTHER INFORMATION CONTACT: Dr. Narasimha Chary Samboju, Senior Regulatory Policy Specialist, PPQ, APHIS, 4700 River Road, Unit 133, Riverdale, MD 20737-1236; (301) 851-2038.

SUPPLEMENTARY INFORMATION:

Background

Under the regulations in “Subpart H—Plants for Planting” (7 CFR 319.37-1 through 319.37-23, referred to below as the regulations), the Animal and Plant Health Inspection Service (APHIS) of the U.S. Department of Agriculture prohibits or restricts the importation of plants for planting (including living plants, plant parts, seeds, and plant cuttings) to prevent the introduction of quarantine pests into the United States. Quarantine pest is defined in § 319.37-2 of the regulations as a plant pest or noxious weed that is of potential economic importance to the United States and not yet present in the United States, or present but not widely distributed and being officially controlled. Section 319.37-4 of the regulations provides that certain taxa of plants for planting are not authorized for importation into the United States pending pest risk analysis (NAPPRA) to prevent the introduction of quarantine pests into the United States.

Paragraph (e) of § 319.37-4 describes the process for removing taxa from the NAPPRA lists. After receiving a request to remove taxa from the NAPPRA lists, APHIS will conduct a pest risk analysis (PRA) in response to such a request and make the PRA available for public review and comment. Following the close of the comment period, we will review all comments received and announce our decision regarding the request in a subsequent notice. Currently, Acer spp. plants are included on the NAPPRA lists.¹

¹ To view the NAPPRA lists, go to: https://www.aphis.usda.gov/aphis/ourfocus/planthealth/import-information/permits/plants-and-plant-products-permits/plants-for-planting/ct_nappra.

The national plant protection organization of the Republic of Korea (South Korea) has requested that we allow the importation of Acer buergerianum, A. palmatum, and A. pseudosieboldianum as dormant, bare-rooted dwarf (also known as “bunjae”) plants into the continental United States. In response to this request, we prepared a pest risk assessment that evaluates the request in light of the plant pest risk associated with the importation of Acer spp. from South Korea, as well as a risk management document (RMD) based on the pest risk assessment to identify phytosanitary measures that could be applied to mitigate the pest risk of importing Acer spp. from South Korea.

Based on the PRA, we are proposing to allow the importation of Acer buergerianum, A. palmatum, and A. pseudosieboldianum into the continental United States as dormant, bare-rooted dwarf plants, subject to the pest risk mitigation measures required for all approved dwarf plants imported under the APHIS Artificially Dwarfed Plants program,² as well as additional commodity-specific risk management measures for these species of Acer. These conditions are described in further detail in the RMD that accompanies this notice.

² To view the requirements of the APHIS Artificially Dwarfed Plants program, go to: https://www.aphis.usda.gov/import_export/plants/manuals/ports/downloads/plants_for_planting.pdf.

Therefore, in accordance with § 319.37-4(e), we are announcing the availability of our PRA and RMD for public review and comment. These documents may be viewed on the Regulations.gov website or in our reading room (see ADDRESSES above for a link to Regulations.gov and information on the location and hours of the reading room). You may request paper copies of these documents by calling or writing to the person listed under FOR FURTHER INFORMATION CONTACT. Please refer to the subject of the analysis you wish to review when requesting copies.

After reviewing any comments we receive, we will announce our decision regarding whether to allow the importation of Acer buergerianum, A. palmatum, and A. pseudosieboldianum as dormant, bare-rooted dwarf plants from South Korea into the continental United States in a subsequent notice. If the overall conclusions of our analysis and the Administrator's determination of risk remain unchanged following our consideration of the comments, then we will revise the NAPPRA lists to allow the importation of the aforementioned Acer spp. from South Korea in accordance with this notice.

Authority: 7 U.S.C. 1633, 7701-7772, and 7781-7786; 21 U.S.C. 136 and 136a; 7 CFR 2.22, 2.80, and 371.3.

Done in Washington, DC, this 26th day of January 2022.
Mark Davidson,
Acting Administrator, Animal and Plant Health Inspection Service.

[FR Doc. 2022-01903 Filed 1-28-22; 8:45 am]

BILLING CODE 3410-34-P